DEPARTMENT OF DEFENSE

Office of the Secretary

[Docket ID: DOD-2010-OS-0091]

Privacy Act of 1974; System of Records

AGENCY: Defense Intelligence Agency, DoD.

ACTION: Notice to add a system of records.

SUMMARY: The Defense Intelligence proposes to add a system of records to its inventory of record systems subject to the Privacy Act of 1974 (5 U.S.C. 552a), as amended.

DATES: This proposed action will be effective without further notice on August 2, 2010, unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

• Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the DIA Privacy Act Coordinator, DAN 1-C, 200 MacDill Blvd, Washington, DC 20340.

The proposed systems report, as required by 5 U.S.C. 552a(r) of the Privacy Act of 1974, as amended, was submitted on June 18, 2010, to the House Committee on of Government Reform, the Senate Committee on Homeland Security and Government Affairs, and the Office of Management and Budget (OMB) pursuant to paragraph 4c of Appendix I to OMB Circular No A-130, “Federal Agency Responsibilities for Maintaining Records About Individuals” dated February 8, 1996 (February 20, 1996; 61 FR 6427).

Dated: June 29, 2010.
Mitchell S. Bryman,
Alternate OSD Federal Register Liaison Officer, Department of Defense.

LDIA: 10-0004

System name:

Occupational, Safety, Health, and Environmental Management Records.

System location:

Defense Intelligence Agency.

Categories of individuals covered by the system:

DIA civilians, military, and contractors.

Categories of records in the system:

Name, Social Security Number (SSN), and date of birth. Records relating to illness or injury regarding occupational safety, and environmental issues or accidents.

Authority for maintenance of the system:

29 CFR part 1904, Recording and Reportable Injury or Illness; 29 CFR part 1960, Basic Program Elements for Federal Employees Occupational, Safety, and Health Programs and Related Matters; DoDI 6055.7, Accident Investigation, Reporting, and Record Keeping; and E.O. 9397, as amended.

Purpose(s):

This system will manage occupational, safety, health, and environmental management case files. Information is used to comply with regulatory reporting requirements and to identify and correct known or potential hazards in order to facilitate prevention programs.

Routine uses of records maintained in the system, including categories of users and the purposes of such uses:

In addition to those disclosures generally permitted under 5 U.S.C. 552a(b) of the Privacy Act of 1974, these records contained therein may specifically be disclosed outside the Department of Defense as a routine use pursuant to 5 U.S.C. 552a(b)(3) as follows:

The DoD `Blanket Routine Uses' set forth at the beginning of the Defense Intelligence Agency's compilation of systems of records notices apply to this system.

Policies and practices for storing, retrieving, accessing, retaining, and disposing of records in the system:

Storage:

Paper and electronic records.

Retrievability:

By last name and Social Security Number (SSN).

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and disposal:

Records are kept for 5 years and then destroyed. Paper records are authorized for destruction in accordance with agency destruction methods and include, shredding, pulping or burning. The electronic record is deleted from this system from which it is housed.

System manager(s) and address:

Occupational, Safety, Health, and Environmental Office, Defense Intelligence Agency, 200 MacDill Boulevard, Washington, DC 20340-0001.

Notification procedure:

Individuals seeking to determine whether information about themselves is contained in this system of records should address written inquiries to the DIA Freedom of Information Act Office (DAN-1A), Defense Intelligence Agency, 200 MacDill Blvd, Washington, DC 20340-5100.

Request should contain the individual's full name, current address, and telephone number.

Record access procedures:

Individuals seeking access to information about themselves, contained in this system of records, should address written inquiries to the DIA Freedom of Information Act Office, Defense Intelligence Agency (DAN-1A), 200 MacDill Blvd, Washington, DC 20340-5100.

Request should contain the individual's full name, current address and telephone number.

Contesting record procedures:

DIA's rules for accessing records, for contesting contents, and appealing initial agency determinations are published in DIA Instruction 5400.001 “Defense Intelligence Agency Privacy Program”; or may be obtained from the system manager.

Record source categories:

Individuals, agency and other government officials.

Exemptions claimed for the system:

None.

[FR Doc. 2010-16132 Filed 7-1-10; 8:45 am]

BILLING CODE 5001-06-P